DEPARTMENT OF COMMERCE

National Oceanic and Atmospheric Administration

RIN 0648-XC531

Caribbean Fishery Management Council; Public Meeting

AGENCY: National Marine Fisheries Service (NMFS), National Oceanic and Atmospheric Administration (NOAA), Commerce.

ACTION: Notice of public meeting.

SUMMARY: The Caribbean Fishery Management Council's (CFMC) Outreach and Education Advisory Panel (OEAP) will hold a meeting.

DATES: The OEAP meeting will be held on March 22, 2013, from 10 a.m. to 5 p.m.

ADDRESSES: The meeting will be held at the CFMC Offices, 270 Muñoz Rivera Avenue, Suite 401, San Juan, Puerto Rico.

FOR FURTHER INFORMATION CONTACT: Caribbean Fishery Management Council, 270 Muñoz Rivera Avenue, Suite 401, San Juan, Puerto Rico 00918, telephone: (787) 766-5926.

SUPPLEMENTARY INFORMATION: The OEAP will meet to discuss the items contained in the following agenda:

• Call to order

• Review Status of:

—Web page

—Newsletter

—CFMC Brochure

—St. Croix Fuete y Verguilla Edition

• Education/Enforcement:

—Commercial Sector

—Recreational Sector

• Advisory Panel Membership

• Other Business

• Next OEAP meeting

The OEAP will convene on March 22, 2013, from 10 a.m. until 5 p.m. The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: February 27, 2013.
Tracey L. Thompson,
Acting Deputy Director, Office of Sustainable Fisheries, National Marine Fisheries Service.

[FR Doc. 2013-04889 Filed 3-1-13; 8:45 am]

BILLING CODE 3510-22-P